DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed reinstatement with change of the “Work Schedules Supplement (WSS) to the Current Population Survey (CPS).” A copy of the proposed information collection request can be obtained by contacting the individual listed below in the ADDRESSES section of this notice.

DATES: Written comments must be submitted to the office listed in the ADDRESSES section of this notice on or before May 21, 2024.

ADDRESSES: Send comments to Erin Good, BLS Clearance Officer, Division of Management Systems, Bureau of Labor Statistics, Room G225, 2 Massachusetts Avenue NE, Washington, DC 20212. Written comments also may be transmitted by email to BLS_PRA_Public@bls.gov.

FOR FURTHER INFORMATION CONTACT: Erin Good, BLS Clearance Officer, at 202-691-7628 (this is not a toll free number). (See ADDRESSES section.)

SUPPLEMENTARY INFORMATION:

I. Background

The purpose of this request for review is for the Bureau of Labor Statistics (BLS) to obtain clearance for the Work Schedule Supplement (WSS or the supplement) to the Current Population Survey (CPS), scheduled to be conducted in September 2024. This supplement was last conducted with the May 2004 CPS.

The results of this supplement will increase our understanding of work schedules (including shift work) and work at home for the employed by various demographic characteristics, occupations, and industries. The data will expand our understanding of current workplace arrangements and how those arrangements have changed over time. Policy makers also can use these data to inform the design of regulations for different types of workers.

Since the supplement was last collected in 2004, work patterns and policies have changed. The disruption of the coronavirus (COVID-19) pandemic has had lasting impacts on work at home and increased the demand for information about work at home. The Work Schedules Supplement provides information on the number and characteristics of people who work at home, including people who operate businesses from their homes. It includes items about the frequency of work at home and makes it easier to identify people who work entirely at home, a topic of interest for researchers and policy makers. For those who work entirely at home, there are new questions about whether they have a worksite they could go to and why they don't work there.

As work at home is more common than in the past, there is a need to have more information about the nature of this work, including identifying people who work entirely at home and quantifying how much people work at home. Policy makers lack information about hybrid work (combining at-home and on-site work) from a large-scale comprehensive labor force survey. For people who work at home some of the time, the supplement asks about hours and days of the week worked at home, including days worked exclusively at home. These items will shed light on the intensity of work at home. There are also questions about work at home on second jobs.

In terms of work schedules, the supplement includes questions to identify shift workers and the reason people work a non-daytime shift. Other questions ask whether people can vary their work hours (the time they start and end work), days worked, or shift worked. Other questions ask about how many and which days of the week people work (including items about second jobs). The 2024 supplement also includes a question about how far in advance workers know their work schedule. Researchers and policy makers can use these data to identify people who lack advance notice of their work schedule or may have unstable work schedules.

Because this supplement is part of the Current Population Survey, in which detailed demographic data are collected, estimates can be produced for a variety of population groups. Given sufficient sample size, comparisons will be possible across demographic characteristics such as sex, age, race, Hispanic or Latino ethnicity, and educational attainment. Comparisons by class of worker, industry, and occupation will also be possible.

II. Current Action

Office of Management and Budget clearance is being sought for the reinstatement with change of the Work Schedules Supplement (WSS) to the Current Population Survey (CPS). A reinstatement with change of this previously approved collection, for which approval has expired, is needed to provide the Nation with timely information about work schedules (including shift work) and work at home.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: Work Schedules Supplement (WSS) to the Current Population Survey (CPS).

OMB Number: 1220-0119.

Type of Review: Reinstatement, with change.

Affected Public: Individuals or households.

Annual Number of Respondents: 47,000.

Number of Responses per Respondent: One.

Total Annual Responses: 47,000.

Average Time per Response: 5 minutes.

Estimated Annual Total Burden Hours: 3,917 hours.

Comments submitted in response to this notice will be summarized and/or included in the request for Office of Management and Budget approval of the information collection request; they also will become a matter of public record.

Signed at Washington, DC, on March 15, 2024.
Eric Molina,
Chief, Division of Management Systems, Branch of Policy Analysis.

[FR Doc. 2024-06054 Filed 3-21-24; 8:45 am]

BILLING CODE 4510-24-P